DEPARTMENT OF THE INTERIOR

National Park Service

Notice of Intent to Repatriate a Cultural Item: U.S. Department of Agriculture, Forest Service, Gila National Forest, Silver City, NM, and Field Museum of Natural History, Chicago, IL

AGENCY: National Park Service, Interior.

ACTION: Notice.

Notice is here given in accordance with the Native American Graves Protection and Repatriation Act (NAGPRA), 25 U.S.C. 3005, of the intent to repatriate a cultural item in the control of the U.S. Department of Agriculture, Forest Service, Gila National Forest, Silver City, NM, and in the possession of the Field Museum of Natural History, Chicago, IL, that meets the definition of “unassociated funerary object” under 25 U.S.C. 3001. The cultural item was removed from the Gila National Forest, Catron County, NM.

This notice is published as part of the National Park Service's administrative responsibilities under NAGPRA, 25 U.S.C. 3003 (d)(3). The determinations in this notice are the sole responsibility of the museum, institution, or Federal agency that has control of the cultural items. The National Park Service is not responsible for the determinations in this notice.

The cultural item is a small San Francisco Red pottery jar.

A detailed assessment of the cultural item was made by the U.S. Department of Agriculture, Forest Service, Gila National Forest and the Field Museum of Natural History professional staff in consultation with the Hopi Tribe, Arizona; Pueblo of Acoma, New Mexico; and Zuni Tribe of the Zuni Reservation, New Mexico.

In 1954, the cultural item was removed from Valley View Pueblo in the Gila National Forest, Catron County, NM, during legally authorized excavations and collected by Dr. Paul S. Martin of the Field Museum of Natural History, Chicago, IL. In August 2005, the Field Museum of Natural History, Chicago, IL, found an unassociated funerary object among its collections that had been taken from Gila National Forest, Catron County, NM, by Dr. Martin. Unassociated funerary objects removed from Gila National Forest, Catron County, NM, were previously published in the Federal Register of June 1, 2005, FR Doc. 05-10805, page 31510, and in a subsequently corrected Notice of Intent to Repatriate published in the Federal Register on August 3, 2005, FR Doc. 05-15322, page 44687.

Material culture, architecture, and site organization indicate that Valley View Pueblo is an Upland Mogollon site occupied between A.D. 550 and 1150. The territory of the Upland Mogollon stretched from south-central Arizona to south-central New Mexico. The Upland Mogollon territories are claimed, currently inhabited, or used by the Hopi Tribe, Arizona; Pueblo of Acoma, New Mexico; and Zuni Tribe of the Zuni Reservation, New Mexico. Most archeological evidence linking Upland Mogollon to present-day Indian tribes relies on ceramics that suggest cultural connections between these groups. Present-day descendants of the Upland Mogollon are the Hopi Tribe, Arizona; Pueblo of Acoma, New Mexico; and Zuni Tribe of the Zuni Reservation, New Mexico. Oral traditions preserved in the ethnographic literature and presented by representatives of the Hopi Tribe, Arizona; Pueblo of Acoma, New Mexico; and Zuni Tribe of the Zuni Reservation, New Mexico support cultural affiliation.

Officials of the U.S. Department of Agriculture, Forest Service, Gila National Forest have determined that, pursuant to 25 U.S.C. 3001 (3)(B), the cultural item described above is reasonably believed to have been placed with or near individual human remains at the time of death or later as part of the death rite or ceremony and is believed, by a preponderance of the evidence, to have been removed from a specific burial site of an Native American individual. Officials of the U.S. Department of Agriculture, Forest Service, Gila National Forest have also determined that, pursuant to 25 U.S.C. 3001 (2), there is a relationship of shared group identity that can be reasonably traced between the unassociated funerary object and the Hopi Tribe, Arizona; Pueblo of Acoma, New Mexico; and Zuni Tribe of the Zuni Reservation, New Mexico.

Representatives of any other Indian tribe that believes itself to be culturally affiliated with the unassociated funerary object should contact Dr. Frank E. Wozniak, NAGPRA Coordinator, Southwestern Region, USDA Forest Service, 333 Broadway Blvd., SE, Albuquerque, NM 87102, telephone (505) 842-3238, before November 25, 2005. Repatriation of the unassociated funerary object to the Hopi Tribe, Arizona; Pueblo of Acoma, New Mexico; and Zuni Tribe of the Zuni Reservation, New Mexico may proceed after that date if no additional claimants come forward.

The U.S. Department of Agriculture, Forest Service, Gila National Forest is responsible for notifying the Hopi Tribe, Arizona; Pueblo of Acoma, New Mexico; and Zuni Tribe of the Zuni Reservation, New Mexico that this notice has been published.

Dated: September 12, 2005.
Sherry Hutt,
Manager, National NAGPRA Program.

[FR Doc. 05-21331 Filed 10-25-05; 8:45 am]

BILLING CODE 4312-50-S